DEPARTMENT OF STATE

[Delegation of Authority No. 597]

Delegation of Authority to the Under Secretary for Foreign Assistance, Humanitarian Affairs, and Religious Freedom

By virtue of the authority vested in the Secretary of State by the laws of the United States, including section 1(a) of the State Department Basic Authorities Act (22 U.S.C. 2651a(a)(4)), I hereby delegate to the Under Secretary for Foreign Assistance, Humanitarian Affairs, and Religious Freedom, to the extent authorized by law, all authorities vested in or delegated to the Director of Foreign Assistance; the Assistant Secretary for Population, Refugees, and Migration; the Assistant Secretary for Democracy, Human Rights, and Labor; the Coordinator of United States Government Activities to Combat HIV/AIDS Globally; the Ambassador-At-Large for Global Health Security and Diplomacy; and the Coordinator for Reconstruction and Stabilization by any act, order, determination, delegation of authority, regulation, or executive order, now or hereafter issued.

The Secretary, Deputy Secretary, and Deputy Secretary for Management and Resources, may exercise any function or authority delegated herein. The authorities delegated herein may be re-delegated, to the extent authorized by law. This delegation of authority does not modify any other delegation of authority currently in effect.

This delegation of authority shall be published in the Federal Register.

Dated: August 21, 2025.
Marco Rubio,
Secretary of State.

[FR Doc. 2025-17084 Filed 9-4-25; 8:45 am]

BILLING CODE 4710-10-P